DEPARTMENT OF TRANSPORTATION

National Highway Traffic Safety Administration

[Docket No. NHTSA-2001-9707; Notice 2]

Decision That Nonconforming Model Years 1999, 2000, and 2001 Mercedes Benz CL500 and CL600 Passenger Cars Are Eligible for Importation

AGENCY: National Highway Traffic Safety Administration (NHTSA), DOT.

ACTION: Notice of decision by NHTSA that nonconforming model years (“MY”) 1999, 2000, and 2001 Mercedes Benz CL500 and CL600 passenger cars are eligible for importation.

SUMMARY: This notice announces the decision by NHTSA that MY 1999, 2000, and 2001 Mercedes Benz CL500 and CL600 passenger cars not originally manufactured to comply with all applicable Federal motor vehicle safety standards are eligible for importation into the United States because they are substantially similar to vehicles originally manufactured for sale in the United States and certified by their manufacturer as complying with the safety standards (the U.S. certified version of the MY 1999, 2000, and 2001 Mercedes Benz CL500 and CL600 passenger cars), and they are capable of being readily altered to conform to the standards.

DATES: This decision is effective as of January 25, 2002.

FOR FURTHER INFORMATION CONTACT: George Entwistle, Office of Vehicle Safety Compliance, NHTSA (202-366-5306).

SUPPLEMENTARY INFORMATION:

Background

Under 49 U.S.C. 30141(a)(1)(A), a motor vehicle that was not originally manufactured to conform to all applicable Federal motor vehicle safety standards (“FMVSS”) shall be refused admission into the United States unless NHTSA has decided that the motor vehicle is substantially similar to a motor vehicle originally manufactured for importation into and sale in the United States, certified under 49 U.S.C. 30115, and of the same model year as the model of the motor vehicle to be compared, and is capable of being readily altered to conform to all applicable FMVSS.

Petitions for eligibility decisions may be submitted by either manufacturers or importers who have registered with NHTSA pursuant to 49 CFR Part 592. As specified in 49 CFR 593.7, NHTSA publishes notice in the Federal Register of each petition that it receives, and affords interested persons an opportunity to comment on the petition. At the close of the comment period, NHTSA decides, on the basis of the petition and any comments that it has received, whether the vehicle is eligible for importation. The agency then publishes this decision in the Federal Register.

J.K. Technologies, LLC, of Baltimore, MD, (“J.K.”) (Registered Importer 90-006) petitioned NHTSA to decide whether MY 1999, 2000, and 2001 Mercedes Benz CL500 and CL600 passenger cars are eligible for importation into the United States. NHTSA published notice of the petition on June 12, 2001 (66 FR 31749) to afford an opportunity for public comment. The reader is referred to that notice for a thorough description of the petition.

One comment was received in response to the notice of the petition, from Mercedes Benz USA, Inc., (“Mercedes”), the manufacturer of MY 1999, 2000, and 2001 Mercedes Benz CL500 and CL600 passenger cars. In this comment, Mercedes stated that, for the vehicles in question, the symbols found on the European version of the cruise control lever on the steering column have to be changed to words to satisfy FMVSS 101 Controls and Displays. Mercedes also noted that, under FMVSS 206 Door Locks and door retention components, the inside door locks for the European versions of the MY 1999, 2000, and 2001 Mercedes Benz CL500 and CL600 passenger cars are not identical to the versions originally manufactured for importation into and sale in the United States. The European versions of the MY 1999, 2000, and 2001 Mercedes Benz CL500 and CL600 passenger cars have cylindrical interior door lock push buttons that submerge into the door panel when in the “lock” position, but the U.S. versions have mushroom shaped push buttons.

NHTSA accorded J.K. an opportunity to respond to Mercedes' comments. J.K. stated that for FMVSS 101 and FMVSS 206, it would replace the cruise control lever and the door lock push buttons, respectively, with the correct U.S. part numbers in the MY 1999, 2000, and 2001 Mercedes Benz CL500 and CL600 passenger cars that are the subject of its petition.

In view of Mercedes' comments and J.K.”s response, NHTSA has decided to grant import eligibility to the MY 1999, 2000, and 2001 Mercedes Benz CL500 and CL600 passenger cars.

Vehicle Eligibility Number for Subject Vehicles

The importer of a vehicle admissible under any final decision must indicate on the form HS-7 accompanying entry the appropriate vehicle eligibility number indicating that the vehicle is eligible for entry. VSP-370 is the vehicle eligibility number assigned to vehicles admissible under this notice of final decision.

Final Decision

Accordingly, on the basis of the foregoing, NHTSA hereby decides that MY 1999, 2000, and 2001 Mercedes Benz CL500 and CL600 passenger cars that were not originally manufactured to comply with all applicable Federal motor vehicle safety standards are substantially similar to MY 1999, 2000, and 2001 Mercedes Benz CL500 and CL600 passenger cars originally manufactured for importation into and sale in the United States and certified under 49 U.S.C. 30115, and are capable of being readily altered to conform to all applicable Federal motor vehicle safety standards.

Authority: 49 U.S.C. 30141(a)(1)(A) and (b)(1); 49 CFR 593.8; delegations of authority at 49 CFR 1.50 and 501.8.

Issued on: January 22, 2002.
Harry Thompson,
Acting Director, Office of Vehicle Safety, Compliance.

[FR Doc. 02-1861 Filed 1-24-02; 8:45 am]

BILLING CODE 4910-59-P